NEIGHBORHOOD REINVESTMENT CORPORATION

Annual Board of Directors Meeting; Sunshine Act Meeting

TIME AND DATE: 1:00 p.m., Monday, June 6, 2016.

PLACE: NeighborWorks America—Gramlich Boardroom, 999 North Capitol Street NE., Washington, DC 20002.

STATUS: Open (with the exception of Executive Session).

CONTACT PERSON: Jeffrey Bryson, EVP & General Counsel/Secretary, (202) 760-4101; jbryson@nw.org.

AGENDA:

I. CALL TO ORDER

II. Approval of Minutes

III. Executive Session: Report from CEO

IV. Executive Session: Report from CFO

V. Executive Session: Officer Compensation

VI. Board Elections and Appointments

VII. NeighborWorks Week Acknowledgment

VIII. Print Services Consolidation

IX. Capital Corporations

X. Project Reinvest Delegation

XI. Decision Framework

XII. NFMC Contract

XIII. Strategic Plan

XIV. Federal FY2018 OMB Submission and Timeline

XV. Management Program Background and Updates

XVI. Adjournment

The General Counsel of the Corporation has certified that in his opinion, one or more of the exemptions set forth in 5 U.S.C. 552b(c)(2), (4) and (6) permit closure of the following portions of this meeting:

• Report from CEO

• Report from CFO

• Officer Compensation

Jeffrey T. Bryson,
EVP & General Counsel/Corporate Secretary.

[FR Doc. 2016-12889 Filed 5-26-16; 4:15 pm]

BILLING CODE 7570-02-P